ADVISORY COUNCIL ON HISTORIC PRESERVATION

Notice of Meeting

AGENCY: Advisory Council on Historic Preservation.

ACTION: Notice of meeting.

SUMMARY: Notice is hereby given that the Advisory Council on Historic Preservation will meet on Friday, November 16, 2001. The meeting will be held in Potomac Rooms I and II, Melrose Hotel, 2430 Pennsylvania Avenue, NW., Washington, DC, beginning at 8:30 a.m.

The Council was established by the National Historic Preservation Act of 1966 (16 U.S.C. section 470) to advise the President and the Congress on matters relating to historic preservation and to comment upon Federal, federally assisted, and federally licensed undertakings having an effect upon properties listed in or eligible for inclusion in the National Register of Historic Places. The Council's members are the Architect of the Capitol; the Secretaries of the Interior, Agriculture, Housing and Urban Development, and Transportation; the Administrators of the Environmental Protection Agency and General Services Administration; the Chairman of the National Trust for Historic Preservation; the President of the National Conference of State Historic Preservation Officers; a Governor; a Mayor; a Native Hawaiian; and eight non-Federal members appointed by the President.The agenda for the meeting includes the following:

I. Chairman's Welcome

II. Chairman's Report

III. Section 106 and Energy Issues

A. Energy Initiatives with the Federal Regulatory Commission—Report and Possible Action

B. Program Comment for Historic Natural Gas Pipelines—Action

IV. Improving Federal Stewardship

A. Report of Task Force on Balancing Cultural and Natural Values in National Parks—Report and Action

B. Army Alternate Procedures—Report

C. Preservation of Manhattan Project Historic Properties—Report and Possible Action

D. Preservation, the Military Construction Process, and Defense Mobilization—Report and Possible Action

V. Section 106 Issues

A. Management of the Missouri River Mainstem System—Report and Possible Action

B. Smithsonian Institution and Section 106—Report and Action

VI. Executive Director's Report

VII. New Business

VIII. Adjourn

Note: The meetings of the Council are open to the public. If you need special accommodations due to a disability, please contact the Advisory Council on Historic Preservation, 1100 Pennsylvania Ave., NW., Room 809, Washington, DC, 202-606-8503, at least seven (7) days prior to the meeting.

FOR FURTHER INFORMATION CONTACT: Additional information concerning the meeting is available from the Executive Director, Advisory Council on Historic Preservation, 1100 Pennsylvania Ave., NW., #809, Washington, DC 20004.

Dated: November 6, 2001.
John M. Fowler,
Executive Director.

[FR Doc. 01-28299 Filed 11-9-01; 8:45 am]

BILLING CODE 4310-10-M